ENVIRONMENTAL PROTECTION AGENCY

[FRL-9944-59-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 2470.01; Technical Assistance Needs Assessments (TANAs) at Superfund Remedial or Removals Sites (New); was approved with change on 11/02/2015; OMB Number 2050-0211; expires on 11/30/2018.

EPA ICR Number 0186.13; NESHAP for Vinyl Chloride (Renewal); 40 CFR part 61, subparts A and F; was approved without change on 11/02/2015; OMB Number 2060-0071; expires on 11/30/2018.

EPA ICR Number 0155.12; Certification of Pesticide Applicators (Renewal); 40 CFR parts 171, 171.7, 171.11, and 152; was approved with change on 11/02/2015; OMB Number 2070-0029; expires on 11/30/2018.

EPA ICR Number 2449.02; Water Quality Standards Regulatory Clarifications (Final Rule); 40 CFR part 131; was preapproved on 11/2/2015; OMB Number 2040-0286; expires on 11/30/2018.

EPA ICR Number 0574.16; Pre-Manufacture Review Reporting and Exemption Requirements for New Chemical Substances and Significant New Use Reporting Requirements for Chemical Substances (Final Rule); 40 CFR parts 700, 720, 721, 723, 725, 725 subpart F, 720.38, 723.50, 725.250, 725.424, 725.428, 720.25, 725.15, 723.250, 723.175, 720.36, and 725.190; was approved with change on 11/03/2015; OMB Number 2070-0012; expires on 11/30/2018.

EPA ICR Number 0246.12; Contractor Cumulative Claim and Reconciliation (Renewal); was approved without change on 11/4/2015; OMB Number 2030-0016; expires on 11/30/2018.

EPA ICR Number 1445.12; Continuous Release Reporting Regulations (CRRR) under CERCLA 1980 (Renewal); 40 CFR part 302; was approved without change on 11/4/2015; OMB Number 2050-0086; expires on 11/30/2018.

EPA ICR Number 1775.07; Hazardous Remediation Waste Management Requirements (HWIR-Media) (Renewal); 40 CFR part 264, 270, and 271; was approved without change on 11/5/2015; OMB Number 2050-0161; expires on 11/30/2018.

EPA ICR Number 1189.26; Identification, Listing and Rulemaking Petitions (Renewal); 40 CFR parts 260, 261, and 257, subpart D; was approved with change on 11/5/2015; OMB Number 2050-0053; expires on 11/30/2018.

EPA ICR Number 1633.16; Acid Rain Program under Title IV of the Clean Air Act Amendments (Renewal); 40 CFR part parts 72-78; was approved without change on 11/6/2015; OMB Number 2060-0258; expires on 11/30/2018.

EPA ICR Number 2028.08; NESHAP for Industrial, Commercial, and Institutional Boilers and Process Heaters (Renewal); 40 CFR part 63, subparts A and DDDDD; was approved without change on 11/06/2015; OMB Number 2060-0551; expires on 11/30/2018.

EPA ICR Number 2164.05; Emission Guidelines for Existing Other Solid Waste Incineration (OSWI) Units (Renewal); 40 CFR part 60, subparts A and FFFF; was approved without change on 11/9/2015; OMB Number 2060-0562; expires on 11/30/2018.

EPA ICR Number 1686.10; NESHAP for the Secondary Lead Smelter Industry (Renewal); 40 CFR part 63, subparts A and X; was approved without change on 11/10/2015; OMB Number 2060-0296; expires on 11/30/2018.

EPA ICR Number 1957.07; NESHAP for Metal Coil Surface Coating Plants (Renewal); 40 CFR part 63, subparts A and SSSS; was approved without change on 11/10/2015; OMB Number 2060-0487; expires on 11/30/2018.

EPA ICR Number 0575.15; Health and Safety Data Reporting; Submission of Lists and Copies of Health and Safety Studies (Renewal); 40 CFR part 716; was approved without change on 11/10/2015; OMB Number 2070-0004; expires on 11/30/2018.

EPA ICR Number 2066.06; NESHAP for Engine Test Cells/Stands (Renewal); 40 CFR part 63, subparts A and PPPPP; was approved without change on 11/10/2015; OMB Number 2060-0483; expires on 11/30/2018.

EPA ICR Number 1745.08; Criteria for Classification of Solid Waste Disposal Facilities and Practices (Renewal); 40 CFR part 257, subpart B; was approved with change on 11/10/2015; OMB Number 2050-0154; expires on 11/30/2018.

EPA ICR Number 1363.24; Toxic Chemical Release Reporting (Change); 40 CFR part 372; was approved without change on 11/12/2015; OMB Number 2025-0009; expires on 11/30/2017.

EPA ICR Number 2267.04; NESHAP for Iron and Steel Foundries (Renewal); 40 CFR part 63, subparts ZZZZZ and A; was approved with change on 11/16/2015; OMB Number 2060-0605; expires on 11/30/2018.

EPA ICR Number 1127.11; NSPS for Hot Mix Asphalt Facilities (Renewal); 40 CFR part 60, subpart I; was approved without change on 11/18/2015; OMB Number 2060-0083; expires on 11/30/2018.

EPA ICR Number 1054.12; NSPS for Petroleum Refineries (Renewal); 40 CFR part 60, subparts A and J; was approved without change on 11/18/2015; OMB Number 2060-0022; expires on 11/30/2018.

EPA ICR Number 1557.09; NSPS for Municipal Solid Waste Landfills (Renewal); 40 CFR part 60, subparts WWW and A; was approved without change on 11/18/2015; OMB Number 2060-0220; expires on 11/30/2018.

EPA ICR Number 0660.12; NSPS for Metal Coil Surface Coating (Renewal); 40 CFR part 60, subparts A and TT; was approved without change on 11/18/2015; OMB Number 2060-0107; expires on 11/30/2018.

Courtney Kerwin,
Acting Director, Collections Strategies Division.

[FR Doc. 2016-07697 Filed 4-4-16; 8:45 am]

BILLING CODE 6560-50-P